CORPORATION FOR NATIONAL AND COMMUNITY SERVICE

Renewal of Two Currently Approved Information Collections; Comment Request; Correction

AGENCY: Corporation for National and Community Service.

ACTION: Notice; correction.

SUMMARY: The Corporation for National and Community Service published a document in the Federal Register of November 21, 2003, concerning a request for public comments on two information collection activities. The document contained an incorrect telephone number.

FOR FURTHER INFORMATION CONTACT: Bruce Kellogg, (202) 606-5000, ext. 256.

Correction

In the Federal Register of November 21, 2003, in 68 FR 65681, on page 65682, in the first column, correct the FOR FURTHER INFORMATION CONTACT caption to read:

FOR FURTHER INFORMATION CONTACT: Bruce Kellogg, (202) 606-5000, ext. 526.

Dated: November 25, 2003.
William L. Hudson, Jr.,
Law Office Manager.

[FR Doc. 03-29862 Filed 12-1-03; 8:45 am]

BILLING CODE 6050-$$-P